DEPARTMENT OF LABOR

Occupational Safety and Health Administration

[Docket No. OSHA-2011-0065]

National Advisory Committee on Occupational Safety and Health (NACOSH)

AGENCY: Occupational Safety and Health Administration (OSHA), Labor.

ACTION: Request for nominations to serve on NACOSH.

SUMMARY: The Assistant Secretary of Labor for Occupational Safety and Health requests nominations for membership on NACOSH.

DATES: Nominations for NACOSH must be submitted (postmarked, sent or received) by November 28, 2011.

ADDRESSES: You may submit nominations for NACOSH, identified by OSHA Docket No., OSHA-2011-0065, by any of the following methods:

Electronically: You may submit nominations, including attachments, electronically at http://www.regulations.gov, which is the Federal eRulemaking Portal. Follow the instructions on-line for submitting nominations.

Facsimile: If your nomination, including attachments, does not exceed 10 pages, you may fax it to the OSHA Docket Office at (202) 693-1648.

Mail, express delivery, hand delivery, messenger or courier service: You may submit your nomination to the OSHA Docket Office, Room N-2625, U.S. Department of Labor, 200 Constitution Avenue, NW., Washington DC 20210; telephone (202) 693-2350 (OSHA's TTY number is (877) 889-5627). Deliveries (hand, express mail, messenger and courier service) are accepted during the Department of Labor's and Docket Office's normal business hours, 8:15 a.m.—4:45 p.m., E.T.

Instructions: All nominations for NACOSH must include the Agency name and docket number for this Federal Register notice (Docket No. OSHA-2011-0065). Submissions in response to this Federal Register notice, including personal information provided, will be posted without change at http://www.regulations.gov. Because of security-related procedures, submitting nominations by regular mail may result in a significant delay in their receipt. Please contact the OSHA Docket Office, at the address above, for information about security procedures for submitting nominations by hand delivery, express delivery, and messenger or courier service. For additional information on submitting nominations, see the SUPPLEMENTARY INFORMATION section below.

Docket: To read or download submissions, go to http://www.regulations.gov. All documents in the docket are listed in the http://www.regulations.gov index. Although listed in the index, some information (e.g., copyrighted material) is not publicly available to read or download through http://www.regulations.gov. All submissions, including copyrighted material, are available for inspection and copying at the OSHA Docket Office.

FOR FURTHER INFORMATION CONTACT: Deborah Crawford, OSHA, Directorate of Evaluation and Analysis, Room N-3641, U.S. Department of Labor, 200 Constitution Avenue, NW., Washington DC 20210; telephone (202) 693-1932; e-mail address crawford.deborah@dol.gov.

SUPPLEMENTARY INFORMATION: The Assistant Secretary of Labor for Occupational Safety and Health invites interested individuals to submit nominations for membership on NACOSH. The terms of seven NACOSH members will expire on March 31, 2012.

The Occupational Safety and Health Act of 1970 (OSH Act) (29 U.S.C. 656) authorizes NACOSH to advise the Secretary of Labor (Secretary) and the Secretary of Health and Human Services (HHS) on matters relating to the administration of the OSH Act. NACOSH is a continuing advisory body and operates in compliance with the OSH Act, the Federal Advisory Committee Act (5 U.S.C. App. 2), and regulations implementing those laws (29 CFR 1912a, 41 CFR part 101-6 and 102-3).

NACOSH is comprised of 12 members, all of whom the Secretary appoints (29 CFR 1912a.2). The composition of the Committee and categories of new members to be appointed are as follows:

• Four public representatives—two will be appointed;

• Two management representatives—one will be appointed;

• Two labor representatives—two will be appointed;

• Two occupational safety professional representatives—one will be appointed; and,

• Two occupational health professional representatives—one will be appointed.

Pursuant to 29 CFR 1912a.2, HHS will designate one public and one occupational health professional for appointment by the Secretary. OSHA will provide to HHS all nominations and supporting materials for those membership categories.

NACOSH members serve for staggered of two-year terms, unless the member becomes unable to serve, resigns, ceases to be qualified to serve, or is removed by the Secretary of Labor. If a vacancy occurs before a term expires, the Secretary may appoint a new member who represents the same interest as the predecessor to serve for the remainder of the unexpired term. The committee meets at least two times a year (29 CFR 1912a.4).

Any individual or organization may nominate one or more qualified persons for membership. Nominations must include the nominee's name, occupation or current position, and contact information. The nomination also must identify the category that the candidate is qualified to represent, and include a resume of the nominee's background, experience, and qualifications. In addition, the nomination must state that the nominee is aware of the nomination and is willing to serve on NACOSH for a two-year term.

NACOSH members will be selected upon the basis of their knowledge, experience and competence in the field of occupational safety and health (29 CFR 1912a.2). The information received through this nomination process, in addition to other relevant sources of information, will assist the Secretary in appointing members to serve on NACOSH. In selecting NACOSH members, the Secretary will consider individuals nominated in response to this Federal Register notice, as well as other qualified individuals.

Before candidates are appointed, the U.S. Department of Labor (Department) conducts a basic background check using publicly available, Internet-based sources.

The Department is committed to bringing greater diversity of thought, perspective and experience to its advisory committees. In addition, the Department encourages nominees of all races, gender, age, disabilities and sexual orientation to apply.

Public Participation—Submission of Nominations and Access to Docket

You may submit nominations (1) Electronically at http://www.regulations.gov, the Federal eRulemaking Portal; (2) by facsimile (fax); or (3) by hard copy. All comments, attachments and other material must identify the Agency name and docket number for this Federal Register notice (OSHA Docket No. OSHA-2011-0065). You may supplement electronic nominations by uploading document files electronically. If, instead, you wish to mail additional materials in reference to an electronic or fax submission, you must submit three copies to the OSHA Docket Office (see ADDRESSES section). The additional materials must clearly identify your electronic nomination by name, date, and docket number so OSHA can attach them to your nomination. Because of security-related procedures, the use of regular mail may cause a significant delay in the receipt of nominations. For information about security procedures concerning the delivery of materials by hand, express delivery, messenger or courier service, please contact the OSHA Docket Office (see ADDRESSES section).

Submissions are posted without change at http://www.regulations.gov. Therefore, OSHA cautions individuals about submitting personal information such as Social Security numbers and birthdates. Although all submissions are listed in the http://www.regulations.gov index, some information (e.g., copyrighted material) is not publicly available to read or download through http://www.regulations.gov. All submissions, including copyrighted material, are available for inspection and copying at the OSHA Docket Office. Information on using the http://www.regulations.gov Website to submit comments and access the docket is available at the Website. Contact the OSHA Docket Office for information about materials not available through the Web site and for assistance in using the internet to locate docket submissions.

Electronic copies of this Federal Register document are available at http://www.regulations.gov. This document, as well as news releases and other relevant information, also are available at OSHA's Webpage at http://www.osha.gov.

Authority and Signature

David Michaels, PhD, MPH, Assistant Secretary of Labor for Occupational Safety and Health, directed the preparation of this notice under the authority granted by section 7 of the Occupational Safety and Health Act of 1970 (29 U.S.C. 656), 29 CFR 1912a, and Secretary of Labor's Order No. 4-2010 (75 FR 55355, 9/10/2010).

Signed at Washington, DC on September 22, 2011.
David Michaels,
Assistant Secretary of Labor for Occupational Safety and Health.

[FR Doc. 2011-24878 Filed 9-27-11; 8:45 am]

BILLING CODE 4510-26-P